DEPARTMENT OF ENERGY

Federal Energy Regulatory Commission

Combined Notice of Filings #2

September 22, 2010.

Take notice that the Commission received the following electric rate filings:

Docket Numbers: ER10-2823-000.

Applicants: Barton Windpower LLC.

Description: Barton Windpower LLC submits tariff filing per 35.12: Baseline Filing of Market-Based Rate Tariff to be effective 9/22/2010.

Filed Date: 09/22/2010.

Accession Number: 20100922-5059.

Comment Date: 5 p.m. Eastern Time on Wednesday, October 13, 2010.

Docket Numbers: ER10-2824-000.

Applicants: Big Horn Wind Project LLC.

Description: Big Horn Wind Project LLC submits tariff filing per 35.12: Baseline Filing of Market-Based Rate Tariff to be effective 9/22/2010.

Filed Date: 09/22/2010.

Accession Number: 20100922-5060.

Comment Date: 5 p.m. Eastern Time on Wednesday, October 13, 2010.

Docket Numbers: ER10-2825-000.

Applicants: Big Horn II Wind Project LLC.

Description: Big Horn II Wind Project LLC submits tariff filing per 35.12: Baseline Filing of Market-Based Rate Tariff to be effective 9/22/2010.

Filed Date: 09/22/2010.

Accession Number: 20100922-5061.

Comment Date: 5 p.m. Eastern Time on Wednesday, October 13, 2010.

Docket Numbers: ER10-2826-000.

Applicants: Buffalo Ridge I LLC.

Description: Buffalo Ridge I LLC submits tariff filing per 35.12: Baseline Filing of Market-Based Rate Tariff to be effective 9/22/2010.

Filed Date: 09/22/2010.

Accession Number: 20100922-5063.

Comment Date: 5 p.m. Eastern Time on Wednesday, October 13, 2010.

Docket Numbers: ER10-2827-000.

Applicants: Buffalo Ridge II LLC.

Description: Buffalo Ridge II LLC submits tariff filing per 35.12: Baseline Filing of Market-Based Rate Tariff to be effective 9/22/2010.

Filed Date: 09/22/2010.

Accession Number: 20100922-5064.

Comment Date: 5 p.m. Eastern Time on Wednesday, October 13, 2010.

Docket Numbers: ER10-2828-000.

Applicants: Casselman Windpower LLC.

Description: Casselman Windpower LLC submits tariff filing per 35.12: Baseline Filing of Market-Based Rate Tariff to be effective 9/22/2010.

Filed Date: 09/22/2010.

Accession Number: 20100922-5069.

Comment Date: 5 p.m. Eastern Time on Wednesday, October 13, 2010.

Docket Numbers: ER10-2829-000.

Applicants: Athens Energy, LLC.

Description: Athens Energy, LLC submits application for authorization to make wholesale sales of energy and capacity at negotiated, market-based rates under ER10-2829.

Filed Date: 09/22/2010.

Accession Number: 20100922-0203.

Comment Date: 5 p.m. Eastern Time on Wednesday, October 13, 2010.

Docket Numbers: ER10-2830-000.

Applicants: The Potomac Edison Company.

Description: The Potomac Edison Company submits tariff filing per 35.12: Potomac Edison Baseline Tariff filing to be effective 9/22/2010.

Filed Date: 09/22/2010.

Accession Number: 20100922-5075.

Comment Date: 5 p.m. Eastern Time on Wednesday, October 13, 2010.

Docket Numbers: ER10-2831-000.

Applicants: Colorado Green Holdings LLC.

Description: Colorado Green Holdings LLC submits tariff filing per 35.12: Baseline Filing of Market-Based Rate Tariff to be effective 9/22/2010.

Filed Date: 09/22/2010.

Accession Number: 20100922-5077.

Comment Date: 5 p.m. Eastern Time on Wednesday, October 13, 2010.

Docket Numbers: ER10-2832-000.

Applicants: West Penn Power Company.

Description: West Penn Power Company submits tariff filing per 35.12: West Penn Baseline OATT Tariff to be effective 9/22/2010.

Filed Date: 09/22/2010.

Accession Number: 20100922-5078.

Comment Date: 5 p.m. Eastern Time on Wednesday, October 13, 2010.

Docket Numbers: ER10-2833-000.

Applicants: East Avenue Energy, LLC.

Description: East Avenue Energy, LLC submits application for authorization to make wholesale sales of energy and capacity at negotiated, market-based rates under ER10-2833.

Filed Date: 09/22/2010.

Accession Number: 20100922-0202.

Comment Date: 5 p.m. Eastern Time on Wednesday, October 13, 2010.

Docket Numbers: ER10-2834-000.

Applicants: Munnsville Wind Farm, LLC.

Description: Munnsville Wind Farm, LLC submits tariff filing per 35.12: Munnsville Wind Farm, LLC Baseline Market-Based Rate Tariff to be effective 9/22/2010.

Filed Date: 09/22/2010.

Accession Number: 20100922-5080.

Comment Date: 5 p.m. Eastern Time on Wednesday, October 13, 2010.

Docket Numbers: ER10-2835-000.

Applicants: Google Energy LLC.

Description: Google Energy LLC submits tariff filing per 35.12: Google Energy LLC Baseline Filing for MBR Tariff to be effective 9/22/2010.

Filed Date: 09/22/2010.

Accession Number: 20100922-5083.

Comment Date: 5 p.m. Eastern Time on Wednesday, October 13, 2010.

Docket Numbers: ER10-2836-000.

Applicants: WFM Intermediary New England, LLC.

Description: WFM Intermediary New England, LLC submits application for authorization to make wholesale sales of energy and capacity at negotiated, market-based rates under ER10-2836.

Filed Date: 09/22/2010.

Accession Number: 20100922-0204.

Comment Date: 5 p.m. Eastern Time on Wednesday, October 13, 2010.

Docket Numbers: ER10-2837-000.

Applicants: Spark Energy, L.P.

Description: Spark Energy, L.P. submits tariff filing per 35.12: Spark Energy, L.P. Baseline Market-Based Rate Tariff to be effective 9/22/2010.

Filed Date: 09/22/2010.

Accession Number: 20100922-5087.

Comment Date: 5 p.m. Eastern Time on Wednesday, October 13, 2010.

Docket Numbers: ER10-2838-000.

Applicants: PacifiCorp.

Description: PacifiCorp submits its baseline tariff filing of Joint Ownership and Operating Agreement with Idaho Power, to be effective 9/22/2010.

Filed Date: 09/22/2010.

Accession Number: 20100922-5088.

Comment Date: 5 p.m. Eastern Time on Wednesday, October 13, 2010.

Docket Numbers: ER10-2839-000.

Applicants: Midland Cogeneration Venture Limited Partnership.

Description: Midland Cogeneration Venture Limited Partnership submits its baseline electronic filing of its FERC Electric Tariff, Original Volume No. 1, to be effective 9/22/2010.

Filed Date: 09/22/2010.

Accession Number: 20100922-5091.

Comment Date: 5 p.m. Eastern Time on Wednesday, October 13, 2010.

Docket Numbers: ER10-2840-000.

Applicants: PacifiCorp.

Description: PacifiCorp submits the Project Construction Agreement with Brigham City, designated as PacifiCorp Rate Schedule FERC No. 661, to be effective 11/22/2010.

Filed Date: 09/22/2010.

Accession Number: 20100922-5092.

Comment Date: 5 p.m. Eastern Time on Wednesday, October 13, 2010.

Docket Numbers: ER10-2841-000.

Applicants: Safeway Inc.

Description: Safeway Inc. submits tariff filing per 35.12: Safeway, Inc. Rate Schedule FERC No. 1 Filing to be effective 9/22/2010.

Filed Date: 09/22/2010.

Accession Number: 20100922-5094.

Comment Date: 5 p.m. Eastern Time on Wednesday, October 13, 2010.

Docket Numbers: ER10-2842-000.

Applicants: PacifiCorp.

Description: PacifiCorp submits tariff filing per 35.13(a)(2)(iii): PGE Harrison Relay Replacement Agreement to be effective 11/22/2010.

Filed Date: 09/22/2010.

Accession Number: 20100922-5095.

Comment Date: 5 p.m. Eastern Time on Wednesday, October 13, 2010.

Docket Numbers: ER10-2843-000.

Applicants: GenConn Middletown LLC.

Description: GenConn Middletown LLC submits tariff filing per 35.12: GenConn Middletown FERC Electric Tariff to be effective 9/22/2010.

Filed Date: 09/22/2010.

Accession Number: 20100922-5097.

Comment Date: 5 p.m. Eastern Time on Wednesday, October 13, 2010.

Docket Numbers: ER10-2844-000.

Applicants: Midwest Independent Transmission System Operator, Inc.

Description: Midwest Independent Transmission System Operator, Inc. submits tariff filing per 35: Attachment X Compliance to be effective 8/24/2010.

Filed Date: 09/22/2010.

Accession Number: 20100922-5101.

Comment Date: 5 p.m. Eastern Time on Wednesday, October 13, 2010.

Docket Numbers: ER10-2845-000.

Applicants: Southwest Power Pool, Inc.

Description: Southwest Power Pool, Inc. submits tariff filing per 35.13(a)(2)(iii): 1066 SubR2 Northeast TX. Elec. Coop. NITSA and NOA Original Docket No. ER10-696 to be effective 7/30/2010.

Filed Date: 09/22/2010.

Accession Number: 20100922-5102.

Comment Date: 5 p.m. Eastern Time on Wednesday, October 13, 2010.

Docket Numbers: ER10-2846-000.

Applicants: Huntley Power LLC.

Description: Huntley Power LLC submits tariff filing per 35.12: Huntley Power FERC Electric Tariff to be effective 9/22/2010.

Filed Date: 09/22/2010.

Accession Number: 20100922-5107.

Comment Date: 5 p.m. Eastern Time on Wednesday, October 13, 2010.

Docket Numbers: ER10-2847-000.

Applicants: TransAlta Centralia Generation LLC.

Description: TransAlta Centralia Generation LLC submits tariff filing per 35.12: TACG Baseline Filing to be effective 9/22/2010.

Filed Date: 09/22/2010.

Accession Number: 20100922-5110.

Comment Date: 5 p.m. Eastern Time on Wednesday, October 13, 2010.

Docket Numbers: ER10-2848-000.

Applicants: AP Holdings, LLC.

Description: AP Holdings, LLC submits tariff filing per 35.12: AP Holdings—Baseline eTariff Filing to be effective 9/22/2010.

Filed Date: 09/22/2010.

Accession Number: 20100922-5123.

Comment Date: 5 pm Eastern Time on Wednesday, October 13, 2010.

Docket Numbers: ER10-2849-000.

Applicants: EDF Industrial Power Services (NY), LLC.

Description: EDF Industrial Power Services (NY), LLC submits tariff filing per 35.12: Market-based Rate Tariff to be effective 9/22/2010.

Filed Date: 09/22/2010.

Accession Number: 20100922-5135.

Comment Date: 5 p.m. Eastern Time on Wednesday, October 13, 2010.

Docket Numbers: ER10-2850-000.

Applicants: California Independent System Operator Corporation.

Description: California Independent System Operator Corporation submits tariff filing per 35: 2010-09-22 IBAA Compliance to be effective 6/28/2010.

Filed Date: 09/22/2010.

Accession Number: 20100922-5143.

Comment Date: 5 p.m. Eastern Time on Wednesday, October 13, 2010.

Docket Numbers: R10-2851-000.

Applicants: Alabama Power Company.

Description: Alabama Power Company submits tariff filing per 35.12: Baseline Filing to be effective 9/22/2010 under ER10-02851-000 Filing Type: 370.

Filed Date: 09/22/2010.

Accession Number: 20100922-5144.

Comment Date: 5 p.m. Eastern Time on Wednesday, October 13, 20.

Docket Numbers: ER10-2852-000.

Applicants: Eagle Industrial Power Services (IL), LL.

Description: Eagle Industrial Power Services (IL), LLC submits tariff filing per 35.12: Market Based Rate to be effective 9/22/2010 under ER10-02852-000 Filing Type: 360.

Filed Date: 09/22/2010.

Accession Number: 20100922-5145.

Comment Date: 5 p.m. Eastern Time on Wednesday, October 13, 2010.

Docket Numbers: ER10-2853-000.

Applicants: Ocean State Power.

Description: Ocean State Power submits tariff filing per 35.12: Ocean State Power—FERC Electric Tariff to be effective 11/22/2010 under ER10-02853-000 Filing Type: 360.

Filed Date: 09/22/2010.

Accession Number: 20100922-5146.

Comment Date: 5 p.m. Eastern Time on Wednesday, October 13, 2010.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-25088 Filed 10-5-10; 8:45 am]

BILLING CODE 6717-01-P